DEPARTMENT OF TRANSPORTATION

Surface Transportation Board

[Ex Parte No. 333]

Sunshine Act Meeting

Time and Date: 10 a.m., July 27, 2005.

Place: The Board's Hearing Room, Surface Transportation Board, 1925 K Street, NW., Washington, DC 20423.

Status: The Board will meet to discuss among themselves the following agenda items. Although the conference is open for public observation, no public participation is permitted.

Matters to be Considered: Docket No. 38302S, United States Department of Energy and the United States Department of Defense v. Baltimore & Ohio Railroad, et al.

Embraced Case: Docket No. 38376S, United States Department of Energy and the United States Department of Defense v. Aberdeen & Rockfish Railroad Company, et al.

STB Finance Docket No. 32760 (Sub-No. 44), Union Pacific Corporation, Union Pacific Railroad Company and Missouri Pacific Railroad Company—Control and Merger—Southern Pacific Rail Corporation, Southern Pacific Transportation Company, St. Louis Southwestern Railway Company, SPCSL Corp. and The Denver and Rio Grande Western Railroad Company (Arbitration Review).

STB Docket No. 42087, Groome & Associates, Inc. and Lee K. Groome v. Greenville County Economic Development Corporation.

STB Finance Docket No. 34487, Greenville County Economic Development Corporation—Petition for Declaratory Order.

STB Finance Docket No. 34337, Michael H. Meyer, Trustee in Bankruptcy for California Western Railroad, Inc. v. North Coast Railroad Authority, d/b/a Northwestern Pacific Railroad.

Embraced Case: STB Ex Parte No. 346 (Sub-No. 25B), Rail General Exemption Authority—Lumber or Wood Products—Petition for Partial Revocation.

STB Finance Docket No. 34649, New York & Greenwood Lake Railway—Feeder Line Acquisition—A Line of Norfolk Southern Railway Company.

STB Docket No. AB-55 (Sub-No. 568X), CSX Transportation, Inc.—Abandonment Exemption—in Franklin County, PA.

Contact Person for More Information: A. Dennis Watson, Office of Congressional and Public Services, Telephone: (202) 565-1596 FIRS: 1-800-877-8339.

Dated: July 20, 2005.
Vernon A. Williams,
Secretary.

[FR Doc. 05-14721 Filed 7-21-05; 12:38 pm]

BILLING CODE 4915-01-P